COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List services to be furnished by nonprofit agencies employing persons who are blind or have other severe disabilities.

DATES: Effective Date: March 15, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail: CMTEFedReg@AbilityOne.gov.

SUPPLEMENTARY INFORMATION:

Additions

On 11/7/2008 and 12/5/2008, the Committee for Purchase From People Who Are Blind or Severely Disabled published notices (73 FR 66216-66217 and 73 FR 74138, respectively) of proposed additions to the Procurement List. No comments were received in response to the Proposed Additional Federal Register Notices.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Furniture Rehabilitation, Parris Island USMC Depot, USMC Recruit Depot, Parris Island, SC.

NPA: Beaufort Vocational Rehabilitation Center, Beaufort, SC.

Contracting Activity: Dept. of the Navy, Commanding General.

Service Type/Location: Reception Service Support, Fort Campbell, Post Wide, Fort Campbell, KY.

Service Type/Location: Reception Service Support, Fort Bragg, Post Wide, Fort Bragg, NC.

NPA: Employment Source, Inc., Fayetteville, NC (Prime-contractor).

Contracting Activity: Dept. of the Army, XR W6BB Ft. Bragg.

Service Type/Location: Reception Service Support, Fort Bliss, Post Wide, Fort Bliss, TX.

NPA: Tresco, Inc., Las Cruces, NM (Sub-contractor).

NPA: Employment Source, Inc., Fayetteville, NC (Prime-contractor).

Contracting Activity: Dept. of the Army, XR W6BB Ft. Bragg.

Service Type/Location: Reception Service Support, Fort Sill, Post Wide, Fort Sill, OK.

NPA: Work Services Corporation, Wichita Falls, TX (Sub-contractor).

NPA: Employment Source, Inc., Fayetteville, NC (Prime-contractor).

Contracting Activity: Dept. of the Army, XR W6BB Ft. Bragg.

Service Type/Location: Reception Service Support, Fort Hood, Post Wide, Fort Hood, TX.

NPA: Professional Contract Services, Inc., Austin, TX (Sub-contractor).

NPA: Employment Source, Inc., Fayetteville, NC (Prime-contractor).

Contracting Activity: Dept. of the Army, XR W6BB Ft. Bragg.

Service Type/Location: Reception Service Support, Fort Lewis, Post Wide, Fort Lewis, WA.

NPA: Skookum Educational Programs, Bremerton, WA (Sub-contractor).

NPA: Employment Source, Inc., Fayetteville, NC (Prime-contractor).

Contracting Activity: Dept. of the Army, XR W6BB Ft. Bragg.

Barry S. Lineback,
Acting Director, Program Operations.

[FR Doc. E9-3141 Filed 2-12-09; 8:45 am]

BILLING CODE 6353-01-P